NATIONAL AERONAUTICS AND SPACE ADMINISTRATION

[Notice: 24-054]

NASA Advisory Council; Technology, Innovation and Engineering Committee; Meeting

AGENCY: National Aeronautics and Space Administration.

ACTION: Notice of meeting.

SUMMARY: In accordance with the Federal Advisory Committee Act, as amended, the National Aeronautics and Space Administration (NASA) announces a meeting of the Technology, Innovation, and Engineering Committee of the NASA Advisory Council (NAC). This Committee reports to the NAC.

DATES: Thursday, September 5, 2024, 8:30 a.m.-5:00 p.m., eastern time.

ADDRESSES: Meeting will be virtual. See dial-in and Webex Webinar information below under SUPPLEMENTARY INFORMATION.

FOR FURTHER INFORMATION CONTACT: Mr. Mike Green, Designated Federal Officer, Space Technology Mission Directorate, NASA Headquarters, Washington, DC 20546, via email at g.m.green@nasa.gov or (202) 358-4710.

SUPPLEMENTARY INFORMATION: This meeting will only be available by Webex Webinar or telephonically for members of the public. If dialing in via toll number, you must use a touch-tone phone to participate in this meeting. Any interested person may join via Webex Webinar at https://nasaenterprise.webex.com/nasaenterprise/j.php?MTID=m72cbc65563b5f548ffea4839744b1116, webinar number is 2820 100 8377, and the webinar password is n@cTIE240905 (61284324 when dialing from a phone or video system). The toll number to listen by phone is +1-415-527-5035. To avoid using the toll number, after joining the Webex Webinar, select the audio connection option that says, “Call Me” and enter your phone number. If using the desktop or web app, check the “Connect to audio without pressing 1 on my phone” box to connect directly to the meeting.

Note: If dialing in, please mute your telephone.

The agenda for the meeting includes the following topics:

—Welcome to NASA's Glenn Research Center

—Space Technology Mission Directorate (STMD) Update

—2024 Civil Space Shortfalls Ranking Process and Results Overview

—NASA Nuclear Systems Update

—Cryogenic Fluid Management Portfolio Update

—Commercial Lunar Payload Services Intuitive Machines-2 Technology Demonstrations Overview

—Early Career Initiative presentation on Mitigating Arc Inception via Transformational Array Instrumentation (MAI TAI)

It is imperative that this meeting be held on this day to accommodate the scheduling priorities of the key participants.

Jamie M. Krauk,
Advisory Committee Management Officer, National Aeronautics and Space Administration.

[FR Doc. 2024-18737 Filed 8-20-24; 8:45 am]

BILLING CODE 7510-13-P